LEGAL SERVICES CORPORATION

Sunshine Act Meeting: Board of Directors and Its Six Committees

AGENCY: Legal Services Corporation.

ACTION: Change Notice.

SUMMARY: On January 19, 2017, the Legal Services Corporation (LSC) published a notice in the Federal Register (82 FR 8214) titled “Board of Directors and its Six Committees will meet on January 26-28, 2017, Eastern Standard Time (EST)”. A correction to change the Board of Directors Open Session Agenda by adding an additional item to the agenda item #3 Approval of minutes of the Board's Open Session telephonic meeting of September 21, 2016; all other items remain consecutively the same. This document changes the notice by revising the Board of Directors Open Session Agenda by adding an additional item to the agenda.

CHANGES IN THE MEETING: Adding an additional Item to the Board of Directors Open Session Agenda.

—Item #3 of the Agenda: Approval of minutes of the Board's Open Session telephonic meeting of September 21, 2016.

DATES: This change is effective January 19, 2017.

FOR FURTHER INFORMATION CONTACT: Katherine Ward, Executive Assistant to the Vice President for Legal Affairs and General Counsel, Legal Services Corporation, 3333 K Street NW., Washington, DC 20007; (202) 295-1500; kward@lsc.gov.

Dated: January 23, 2017.
Katherine Ward,
Executive Assistant to the Vice President for Legal Affairs and General Counsel.

[FR Doc. 2017-01853 Filed 1-24-17; 11:15 am]

BILLING CODE 7050-01-P